FEDERAL COMMUNICATIONS COMMISSION

47 CFR Parts 61 and 69

[CC Docket Nos. 96-262, 94-1, 91-213, 95-72; DA 04-691]

1997 Access Reform Docket: Notice of Dismissal of Petitions for Reconsideration

AGENCY: Federal Communications Commission.

ACTION: Proposed rule.

SUMMARY: This document is a notification of dismissal of petitions for reconsideration in the 1997 Access Charge Reform Docket. The Commission on March 12, 2004, issued a public notice of dismissal of petitions for reconsideration in this docket. The parties that previously filed these petitions did not respond to the Commission's requests to refresh the record in these proceedings and expressed no intent to pursue their petitions. As a result, any interested parties are hereby notified that these petitions have been dismissed.

FOR FURTHER INFORMATION CONTACT: Marv Sacks, Wireline Competition Bureau, Pricing Policy Division, (202) 418-1520.

SUPPLEMENTARY INFORMATION: On December 15, 2003, the Wireline Competition Bureau issued a public notice requesting parties that had filed petitions for reconsideration in the 1997 Access Charge Reform Docket to file a supplemental notice indicating those issues that the parties still wish to be reconsidered. The notice was published in the Federal Register on January 16, 2004, and comments were due February 17, 2004. See 69 FR 2560, January 16, 2004. The notice was issued because the petitions for reconsideration were filed several years ago, and the passage of time and various intervening developments, including litigation and additional Commission orders addressing access charge reform, may have rendered the records developed in response to those petitions stale. The public notice further stated that the Commission would deem such petitions withdrawn and would dismiss them unless parties indicated an intent to pursue their respective petitions for reconsideration no later than 30 days after publication of the public notice in the Federal Register. The Bureau did not receive any filings that responded to the notice within this time frame from parties that had previously filed petitions for reconsideration. As a result, the Commission on March 12, 2004, issued a public notice of dismissal of petitions for reconsideration in this docket.

Federal Communications Commission.
Tamara Preiss,
Chief, Pricing Policy Division, Wireline Competition Bureau.

[FR Doc. 04-7376 Filed 3-31-04; 8:45 am]

BILLING CODE 6712-01-P